ENVIRONMENTAL PROTECTION AGENCY

[EPA-HQ-OPP-2005-0220; FRL-9326-5]

Dicofol; Cancellation Order for Certain Pesticide Registrations

AGENCY: Environmental Protection Agency (EPA).

ACTION: Notice.

SUMMARY: This notice announces EPA's order for the cancellations, voluntarily requested by the registrants and accepted by the Agency, of products containing dicofol, pursuant to section 6(f)(1) of the Federal Insecticide, Fungicide, and Rodenticide Act (FIFRA), as amended. This cancellation order follows a June 22, 2011 Federal Register Notice of Receipt of Requests from the registrants listed in Table 3 of Unit II to voluntarily cancel these product registrations. These are the last products containing this pesticide registered for use in the United States. In the June 22, 2011 notice, EPA indicated that it would issue an order implementing the cancellations, unless the Agency received substantive comments within the 30 day comment period that would merit its further review of these requests, or unless the registrants withdrew their requests. The Agency did not receive any comments on the notice. Further, the registrants did not withdraw their requests. Accordingly, EPA hereby issues in this notice a cancellation order granting the requested cancellations. Any distribution, sale, or use of the products subject to this cancellation order is permitted only in accordance with the terms of this order. 11P-1531

DATES: The cancellation of the technical dicofol product is effective December 14, 2011. The cancellations of the end use registrations are effective October 31, 2013.

FOR FURTHER INFORMATION CONTACT: Susan M. Bartow, Pesticide Re-evaluation Division (7508P), Office of Pesticide Programs, Environmental Protection Agency, 1200 Pennsylvania Ave. NW., Washington, DC 20460-0001; telephone number: (703) 603-0065; email address: bartow.susan@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2005-0220. Publicly available docket materials are available either in the electronic docket at http://www.regulations.gov, or, if only available in hard copy, at the Office of Pesticide Programs (OPP) Regulatory Public Docket in Rm. S-4400, One Potomac Yard (South Bldg.), 2777 S. Crystal Dr. Arlington, VA. The hours of operation of this Docket Facility are from 8:30 a.m. to 4 p.m., Monday through Friday, excluding legal holidays. The Docket Facility telephone number is (703) 305-5805.

II. What action is the agency taking?

This notice announces the cancellation of dicofol products, as requested by registrants, pursuant to section 6(f) of FIFRA. These registrations are listed in sequence by registration number in Table 1 and Table 2 of this unit.

Table 1—Dicofol Technical Product Cancellation
EPA registration No. | Product name
11603-26 | Mitigan (Dicofol) Technical.

Table 2—Dicofol End Use Product Cancellations
EPA registration No. | Product name
66222-21 | MANA Dicofol 4E.
66222-56 | Dicofol 4E.
66222-95 | Dicofol 50WSB.

Table 3 of this unit includes the names and addresses of record for all registrants of the products listed in Tables 1 and 2 of this unit, in sequence by EPA company number.

Table 3—Registrants of Cancelled Products
EPA company No. | Company name and address
11603 | Agan Chemical Manufacturing Ltd, 4515 Falls of Neuse Rd. Suite 300, Raleigh, NC 27609.
66222 | Makhteshim Agan of North America, Inc, 4515 Falls of Neuse Rd. Suite 300, Raleigh, NC 27609.

III. Summary of Public Comments Received and Agency Response to Comments

During the public comment period provided, EPA received no comments in response to the June 22, 2011 Federal Register notice announcing the Agency's receipt of the requests for voluntary cancellations of products listed in Tables 1 and 2 of Unit II.

IV. Cancellation Order

Pursuant to FIFRA section 6(f), EPA hereby approves the requested cancellations and amendments to terminate the uses of dicofol registrations identified in Tables 1 and 2 of Unit II. Accordingly, the cancellation of the technical dicofol product is effective immediately. The cancellation of the end use registrations is effective October 31, 2013. Any distribution, sale, or use of existing stocks of the products identified in Tables 1 and 2 of Unit II in a manner inconsistent with any of the provisions for disposition of existing stocks set forth in Unit VI will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment on June 22, 2011 (76 FR 36535) (FRL-8875-7). The comment period closed on July 22, 2011.

VI. Provisions for Disposition of Existing Stocks

Existing stocks are those stocks of registered pesticide products which are currently in the United States and which were packaged, labeled, and released for shipment prior to the effective date of the action. The existing stocks provision for the products subject to this order is as follows:

a. Sale, distribution and use of the technical dicofol is prohibited, except: Registrants of dicofol end-use products shall be allowed to reformulate existing stocks of dicofol technical into products identified in Table 2 of Unit II, until October 31, 2013, or for products intended for export consistent with the requirements of FIFRA section 17 or for purposes of proper disposal.

b. Sale and distribution by registrants of end use products after October 31, 2013 is prohibited except for export consistent with the requirements of FIFRA section 17 or for purposes of proper disposal.

c. Sale and distribution of end use products by persons other than registrants is permitted until December 31, 2013. Thereafter, sale and distribution of end use products by persons other than registrants is prohibited except for export consistent with the requirements of FIFRA section 17 or for purposes of proper disposal.

d. Use of existing stocks of any end-use product consistent with the terms of the previously approved labeling on, or accompanied by, the deleted products identified shall be allowed until October 31, 2016, and thereafter, only for the purposes of proper disposal.

List of Subjects

Environmental protection, Pesticides and pests.

Dated: December 6, 2011.
Richard P. Keigwin, Jr.,
Director, Pesticide Re-evaluation Division, Office of Pesticide Programs.

[FR Doc. 2011-31987 Filed 12-13-11; 8:45 am]

BILLING CODE 6560-50-P